DEPARTMENT OF THE INTERIOR

National Park Service

[NPS-WASO-NAGPRA-21094; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program, previously listed as the Office of the State Archaeologist Burials Program, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Office of the State Archaeologist Bioarchaeology Program. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Office of the State Archaeologist Bioarchaeology Program at the address in this notice by July 14, 2016.

ADDRESSES: Lara Noldner, Office of the State Archaeologist Bioarchaeology Program, University of Iowa, 700 South Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of the Office of the State Archaeologist Bioarchaeology Program, Iowa City, IA. The human remains were removed from the Blood Run National Historic Landmark, Lyon County, IA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Office of the State Archaeologist Bioarchaeology Program professional staff in consultation with representatives of the Ho-Chunk Nation of Wisconsin; the Iowa Tribe of Kansas and Nebraska; the Iowa Tribe of Oklahoma; the Omaha Tribe of Nebraska; the Otoe-Missouria Tribe of Indians, Oklahoma; the Ponca Tribe of Indians of Oklahoma; the Ponca Tribe of Nebraska; and the Winnebago Tribe of Nebraska.

History and Description of the Remains

In 1980, human remains representing, at minimum, two individuals were removed from the Blood Run National Historic Landmark, site number 13LO2, in Lyon County, IA. Several small skeletal elements were collected from the surface of the mounds during an archeological survey. These human remains were transferred to the Office of the State Archaeologist Bioarchaeology Program. The human remains were identified as one juvenile and one adult, both of indeterminate sex. No known individuals were identified. No associated funerary objects are present.

At an unknown date, human remains representing, at minimum, two individuals were removed from the Blood Run National Historic Landmark, site number 13LO2, in Lyon County, IA. The human remains were part of the Amy Harvey collection. Amy Harvey collected Oneota materials while doing doctoral research at the University of Wisconsin-Madison in the early 1960s, and retained the materials when she began teaching at Stephens College in Columbia, Missouri, in 1965. The human remains were transferred to the Office of the State Archaeologist Bioarchaeology Program in 2010. The human remains were identified as one subadult, approximately two years old, and one adult. Sex could not be determined. No known individuals were identified. No associated funerary objects are present.

The Blood Run National Historic Landmark (site 13LO2) is a large Oneota tradition village site located in Iowa and South Dakota, straddling the Big Sioux River southeast of Sioux Falls, SD. Archeological evidence, including radiocarbon dates and trade artifacts, suggests that the site was most intensively occupied from A.D. 1500-1700. Tribal histories, supported by French historical maps and documents, strongly suggest that the Omaha (possibly including the Ponca at this time), Iowa, and Oto tribes were present in the area at that time and were the probable residents of the site. The Ho-Chunk and Winnebago are also ethnohistorically linked to these tribes. Based on this contextual information, it has been determined that there is a relationship of shared group identity that can be reasonably traced between these Native American human remains and the Ho-Chunk Nation of Wisconsin; the Iowa Tribe of Kansas and Nebraska; the Iowa Tribe of Oklahoma; the Omaha Tribe of Nebraska; the Otoe-Missouria Tribe of Indians, Oklahoma; the Ponca Tribe of Nebraska; the Ponca Tribe of Indians of Oklahoma; and the Winnebago Tribe of Nebraska.

Determinations Made by the Office of the State Archaeologist Bioarchaeology Program

Officials of the Office of the State Archaeologist Bioarchaeology Program have determined that:

• Pursuant to 25 U.S.C. 3001(9), the human remains described in this notice represent the physical remains of four individuals of Native American ancestry.

• Pursuant to 25 U.S.C. 3001(2), there is a relationship of shared group identity that can be reasonably traced between the Native American human remains and the Ho-Chunk Nation of Wisconsin; the Iowa Tribe of Kansas and Nebraska; the Iowa Tribe of Oklahoma; the Omaha Tribe of Nebraska; the Otoe-Missouria Tribe of Indians, Oklahoma; the Ponca Tribe of Nebraska; the Ponca Tribe of Indians of Oklahoma; and the Winnebago Tribe of Nebraska.

Additional Requestors and Disposition

Lineal descendants or representatives of any Indian tribe or Native Hawaiian organization not identified in this notice that wish to request transfer of control of these human remains should submit a written request with information in support of the request to Lara Noldner, Office of the State Archaeologist Bioarchaeology Program, University of Iowa, 700 South Clinton Street, Iowa City, IA 52242, telephone (319) 384-0740, email lara-noldner@uiowa.edu, by July 14, 2016. After that date, if no additional requestors have come forward, transfer of control of the human remains to the Ho-Chunk Nation of Wisconsin; the Iowa Tribe of Kansas and Nebraska; the Iowa Tribe of Oklahoma; the Omaha Tribe of Nebraska; the Otoe-Missouria Tribe of Indians, Oklahoma; the Ponca Tribe of Nebraska; the Ponca Tribe of Indians of Oklahoma; and the Winnebago Tribe of Nebraska, may proceed.

The Office of the State Archaeologist Bioarchaeology Program is responsible for notifying the Ho-Chunk Nation of Wisconsin; the Iowa Tribe of Kansas and Nebraska; the Iowa Tribe of Oklahoma; the Omaha Tribe of Nebraska; the Otoe-Missouria Tribe of Indians, Oklahoma; the Ponca Tribe of Nebraska; the Ponca Tribe of Indians of Oklahoma; and the Winnebago Tribe of Nebraska, that this notice has been published.

Dated: May 16, 2016.
Melanie O'Brien,
Manager, National NAGPRA Program.

[FR Doc. 2016-14014 Filed 6-13-16; 8:45 am]

BILLING CODE 4312-50-P